DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2020 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the fall 2019 agenda. The purpose of the Agenda is to provide information to the public on regulations that are currently under review, being proposed, or issued by Commerce. The agenda is intended to facilitate comments and views by interested members of the public.

Commerce's spring 2020 regulatory agenda includes regulatory activities that are expected to be conducted during the period May 1, 2020, through April 30, 2021.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2020 Unified Agenda of Federal Regulatory and Deregulatory Actions pursuant to Executive Order 12866 and the Regulatory Flexibility Act, 5 U.S.C. 601 et seq. Executive Order 12866 requires agencies to publish an agenda of those regulations that are under consideration pursuant to this order. By memorandum of January 16, 2020, the Office of Management and Budget issued guidelines and procedures for the preparation and publication of the spring 2020 Unified Agenda. The Regulatory Flexibility Act requires agencies to publish, in the spring and fall of each year, a regulatory flexibility agenda that contains a brief description of the subject of any rule likely to have a significant economic impact on a substantial number of small entities.

Beginning with the fall 2007 edition, the internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for the fisheries within their respective areas in the EEZ. The Councils are required by law to conduct public hearings on the development of FMPs and FMP amendments. Consistent with applicable law, environmental and other analyses are developed that consider alternatives to proposed actions.

Pursuant to the Magnuson-Stevens Act, the Councils also submit to NMFS proposed regulations they deem necessary or appropriate to implement FMPs. The proposed regulations, FMPs, and FMP amendments are subject to review and approval by NMFS, based on consistency with the Magnuson-Stevens Act and other applicable law. The Council process for developing FMPs and amendments makes it difficult for NMFS to determine the significance and timing of some regulatory actions under consideration by the Councils at the time the semiannual regulatory agenda is published.

Commerce's spring 2020 regulatory agenda follows.

Michael Walsh,
Chief of Staff, Performing the Delegated Duties of the General Counsel.
Department of Commerce authorizes LaTonya Datcher of RISC to digitally sign for our agency as the relevant signer at DOC is not equipped to technically do digital signing at this time. DOC acknowledges that RISC will include DOC's Preamble and Unified Agenda Entries containing a RISC digital signature in the Unified Agenda related to documents that RISC publishes on our behalf.
LaTonya Datcher (Digital Signature)
Program Analyst.

International Trade Administration—Proposed Rule Stage
Sequence No. | Title | Regulation Identifier No.
14 | Modifications to Regulations to Improve Administration and Enforcement of Antidumping and Countervailing Duty Laws | 0625-AB10

Bureau of Industry and Security—Completed Actions
Sequence No. | Title | Regulation Identifier No.
15 | Expansion of Export, Reexport, and Transfer (In-Country) Controls for Military End Use or Military End Users in the People's Republic of China (China), Russia, or Venezuela | 0694-AH53

National Oceanic and Atmospheric Administration—Proposed Rule Stage
Sequence No. | Title | Regulation Identifier No.
16 | Comprehensive Fishery Management Plan for Puerto Rico | 0648-BD32
17 | International Fisheries; South Pacific Tuna Fisheries; Implementation of Amendments to the South Pacific Tuna Treaty | 0648-BG04
18 | Illegal, Unregulated, and Unreported Fishing; Fisheries Enforcement; High Seas Driftnet Fishing Moratorium Protection Act | 0648-BG11
19 | International Fisheries; Western and Central Pacific Fisheries for Highly Migratory Species; Requirements to Safeguard Fishery Observers | 0648-BG66
20 | Regulatory Amendment to the Pacific Coast Groundfish Fishery Management Plan to Implement an Electronic Monitoring Program for Bottom Trawl and Non-Whiting Midwater Trawl Vessels | 0648-BH70
21 | Amendment 21 to the Summer Flounder, Scup, and Black Sea Bass Fishery Management Plan | 0648-BJ18
22 | Establish National Insurance Requirements for Observer Providers | 0648-BJ33
23 | Bering Sea and Aleutian Islands Pacific Cod Pot Catcher/Processor License Limitation Program Adjustment | 0648-BJ42
24 | Amendment 121 to the Fishery Management Plan for Groundfish of the Bering Sea and Aleutian Islands Management Area and Amendment 110 to the Fishery Management Plan for Groundfish of the Gulf of Alaska | 0648-BJ49
25 | Salmon Bycatch Minimization in the Pacific Coast Groundfish Fishery | 0648-BJ50
26 | Modification of Multi-Day Trip Possession Limits for Federally-Permitted Charter/Headboat Vessels in the Fishery Management Plans (FMP) in the Gulf of Mexico | 0648-BJ60
27 | Designation of Critical Habitat for the Arctic Ringed Seal | 0648-BC56
28 | Amendment and Updates to the Pelagic Longline Take Reduction Plan | 0648-BF90
29 | Designation of Critical Habitat for the Threatened Caribbean Corals | 0648-BG26
30 | Atlantic Large Whale Take Reduction Plan Modifications to Reduce Serious Injury and Mortality of Large Whales in Commercial Trap/Pot Fisheries Along the U.S. East Coast | 0648-BJ09

National Oceanic and Atmospheric Administration—Final Rule Stage
Sequence No. | Title | Regulation Identifier No.
31 | Commerce Trusted Trader Program | 0648-BG51
32 | Rule to Implement the For-Hire Reporting Amendments | 0648-BG75
33 | New England Industry-Funded Monitoring Amendment | 0648-BG91
34 | Area of Overlap Between the Convention Areas of the Inter-American Tropical Tuna Commission and the Western and Central Pacific Fisheries Commission | 0648-BH59
35 | Omnibus Deep-Sea Coral Amendment | 0648-BH67
36 | Generic Amendment to the Fishery Management Plans for the Reef Fish Resources of the Gulf of Mexico and Coastal Migratory Pelagic Resources in the Gulf of Mexico and Atlantic Region | 0648-BH72
37 | Magnuson-Stevens Fisheries Conservation and Management Act; Traceability Information Program for Seafood | 0648-BH87
38 | Vessel Movement, Monitoring, and Declaration Management Enhancement for the Pacific Coast Groundfish Fishery; Pacific Coast Groundfish Fishery Management Plan | 0648-BI45
39 | Framework Adjustment 59 to the Northeast Multispecies Fishery Management Plan | 0648-BJ12
40 | Vessel Monitoring Systems; Amendment to Type-Approval Requirements | 0648-BJ15
41 | Regulatory Amendment to Adjust the North Pacific Observer Program Partial Coverage Fee | 0648-BJ40
42 | Reducing Disturbances to Hawaiian Spinner Dolphins From Human Interactions | 0648-AU02
43 | Taking and Importing Marine Mammals: Taking Marine Mammals Incidental to Geophysical Surveys Related to Oil and Gas Activities in the Gulf of Mexico | 0648-BB38
44 | Revision to Critical Habitat Designation for Endangered Southern Resident Killer Whales | 0648-BH95
45 | Designation of Critical Habitat for the Mexico, Central American, and Western Pacific Distinct Population Segments of Humpback Whales Under the Endangered Species Act | 0648-BI06
46 | Wisconsin-Lake Michigan National Marine Sanctuary Designation | 0648-BG01

National Oceanic and Atmospheric Administration—Long-Term Actions
Sequence No. | Title | Regulation Identifier No.
47 | Implementation of a Program for Transshipments by Large Scale Fishing Vessels in the Eastern Pacific Ocean | 0648-BD59
48 | International Fisheries; Western and Central Pacific Fisheries for Highly Migratory Species; Treatment of U.S. Purse Seine Fishing With Respect to U.S. Territories | 0648-BF41

National Oceanic and Atmospheric Administration—Completed Actions
Sequence No. | Title | Regulation Identifier No.
49 | Comprehensive Fishery Management Plan for St. Croix | 0648-BD33
50 | Comprehensive Fishery Management Plan for St. Thomas/St. John | 0648-BD34
51 | Jonah Crab Fishery; Interstate Fishery Management Plan for Jonah Crab | 0648-BF43
52 | Vision Blueprint Commercial Regulatory Amendment 27 to the Fishery Management Plan for the Snapper-Grouper Fishery of the South Atlantic Region | 0648-BI32
53 | Amendment 21-4 to the Pacific Coast Groundfish Fishery Management Plan: Trawl Catch Share Program 5-Year Review Follow-On Actions | 0648-BI35
54 | Framework Adjustment 13 to the Atlantic Mackerel, Squid, and Butterfish Fishery Management Plan | 0648-BI49
55 | Atlantic Highly Migratory Species; Pelagic Longline Bluefin Tuna Area-Based and Weak Hook Management | 0648-BI51
56 | Reduce Gulf of Mexico Red Grouper Annual Catch Limits and Annual Catch Targets | 0648-BI63
57 | Amendment 118 to Allow Halibut Retention in BSAI IFQ Pot Gear in the Fishery Management Plan for Groundfish of the BSAI | 0648-BI65
58 | Interim 2019 Tribal Pacific Whiting Allocation and Require Consideration of Chinook Salmon Bycatch Before Reapportioning Tribal Whiting; Pacific Coast Groundfish | 0648-BI67
59 | Requirements to Safeguard Fishery Observers in the Eastern Pacific Ocean | 0648-BI86
60 | Framework Action to Reduce Gulf of Mexico Red Grouper Annual Catch Limits and Annual Catch Targets to the Fishery Management Plan for the Reef Fish Resources of the Gulf of Mexico | 0648-BI95
61 | Amendment 18 to the Fishery Management Plan for the Shrimp Fishery of the Gulf of Mexico, U.S. Waters | 0648-BI96
62 | Revisions to the Seabird Avoidance Program for the Pacific Coast Groundfish Fishery Management Plan | 0648-BI99
63 | Amendment 120 to the Fishery Management Plan for Groundfish of the Bering Sea and Aleutian Islands Management Area and Amendment 108 to the Fishery Management Plan | 0648-BJ02
64 | Framework Adjustment 6 and 2019-2021 Atlantic Herring Fishery Specifications | 0648-BJ13
65 | Framework Action to the Fishery Management Plan for Reef Fish Resources of the Gulf of Mexico; Modification to the Recreational For-Hire Red Snapper Annual Catch Target (ACT) Buffer | 0648-BJ28
66 | Framework Adjustment 32 to the Atlantic Sea Scallop Fishery Management Plan | 0648-BJ51
67 | Regulation to Reduce Incidental Bycatch and Mortality of Sea Turtles in the Southeastern U.S. Shrimp Fisheries | 0648-BG45

Patent and Trademark Office—Proposed Rule Stage
Sequence No. | Title | Regulation Identifier No.
68 | Trademark Fee Adjustment | 0651-AD42

Patent and Trademark Office—Final Rule Stage
Sequence No. | Title | Regulation Identifier No.
69 | Setting and Adjusting Patent Fees During Fiscal Year 2020 | 0651-AD31

DEPARTMENT OF COMMERCE (DOC)

International Trade Administration (ITA)

Proposed Rule Stage

14. Modifications to Regulations To Improve Administration and Enforcement of Antidumping and Countervailing Duty Laws

E.O. 13771 Designation: Other.

Legal Authority: 19 U.S.C. 1671 et seq.; Pub. L. 114-125, sec. 421

Abstract: Pursuant to its authority under Title VII of the Tariff Act of 1930, as amended (the Act), the Department of Commerce (Commerce) proposes to modify its regulations under Part 351 of Title 19 to improve administration and enforcement of the antidumping duty (AD) and countervailing duty (CVD) laws. Specifically, Commerce proposes to modify its regulation concerning the time for submission of comments pertaining to industry support in AD and CVD proceedings; to modify its regulation regarding new shipper reviews; to modify its regulation concerning scope matters in AD and CVD proceedings; to promulgate a new regulation concerning circumvention of AD and CVD orders; to promulgate a new regulation concerning covered merchandise referrals received from U.S. Customs and Border Protection (CBP); to promulgate a new regulation pertaining to Commerce requests for certifications from interested parties to establish whether merchandise is subject to an AD or CVD order; and to modify its regulation regarding importer reimbursement certifications filed with CBP. Finally, Commerce proposes to modify its regulations regarding letters of appearance in AD and CVD proceedings and importer filing requirements for access to business proprietary information. Commerce is seeking public comments on this proposed rule.

Timetable:

Action | Date | FR Cite
NPRM | 06/00/20 |

Regulatory Flexibility Analysis Required: Yes.

Agency Contact: Jessica Link, Department of Commerce, International Trade Administration, 1401 Constitution Avenue NW, Washington, DC 20230, Phone: 202 482-1411, Email: jessica.link@trade.gov.

RIN: 0625-AB10

DEPARTMENT OF COMMERCE (DOC)

Bureau of Industry and Security (BIS)

Completed Actions

15. Expansion of Export, Reexport, and Transfer (In-Country) Controls for Military End Use or Military End Users in the People's Republic of China (China), Russia, or Venezuela

E.O. 13771 Designation: Other.

Legal Authority: 10 U.S.C. 7420; 10 U.S.C. 7430(e); 15 U.S.C. 1824a; 22 U.S.C. 287c; 22 U.S.C. 3201 et seq.; 22 U.S.C. 6004; 22 U.S.C. 7201 et seq.; 22 U.S.C. 7210; 30 U.S.C. 185(s); 30 U.S.C. 185(u); 42 U.S.C. 2139a; 43 U.S.C. 1354; 50 U.S.C. 1701 et seq.; 50 U.S.C. 4305; 50 U.S.C. 4601 et seq.; E.O. 12058; E.O. 12851; E.O. 12938; E.O. 12947; E.O. 13026; E.O. 13099; E.O. 13222; E.O. 13224; Pub. L. 108-11

Abstract: The Bureau of Industry and Security (BIS) is amending the Export Administration Regulations (EAR) to expand license requirements on exports, reexports, and transfers (in-country) of items intended for military end use or military end users in the People's Republic of China (China), Russia, or Venezuela. Specifically, this rule expands the licensing requirements for China to include “military end users,” in addition to “military end use.” It broadens the items for which the licensing requirements and review policy apply and expand the definition of “military end use.” Next, it creates a new reason for control and associated review policy for regional stability for certain items to China, Russia, or Venezuela, moving existing text related to this policy. Finally, it adds Electronic Export Information filing requirements in the Automated Export System for exports to China, Russia, and Venezuela.

Timetable:

Action | Date | FR Cite
Final Rule | 04/28/20 | 85 FR 23459
Final Rule; Correction | 06/03/20 | 85 FR 34306
Final Rule Effective | 06/29/20 |
Final Rule; Correction Effective | 06/29/20 |

Regulatory Flexibility Analysis Required: Yes.

Agency Contact: Hillary Hess, Director, Regulatory Policy Division, Department of Commerce, Bureau of Industry and Security, 14th Street and Pennsylvania Avenue NW, Washington, DC 20230, Phone: 202 482-2440, Fax: 202 482-3355, Email: hillary.hess@bis.doc.gov.

RIN: 0694-AH53

DEPARTMENT OF COMMERCE (DOC)

National Oceanic and Atmospheric Administration (NOAA)

Proposed Rule Stage

National Marine Fisheries Service

16. Comprehensive Fishery Management Plan for Puerto Rico

E.O. 13771 Designation: Not subject to, not significant.

Legal Authority: 16 U.S.C. 1801 et seq.

Abstract: In response to a recommendation of the Caribbean Fishery Management Council, this action would establish three new FMPs (Puerto Rico FMP, St. Thomas/St. John FMP and St. Croix FMP) and repeal and replace the existing U.S. Caribbean-wide FMPs (the FMP for the Reef Fish Fishery of Puerto Rico and the U.S. Virgin Islands (USVI), the FMP for the Spiny Lobster Fishery of Puerto Rico and the USVI, the FMP for Queen Conch Resources of Puerto Rico and the USVI, and the FMP for the Corals and Reef Associated Plants and Invertebrates of Puerto Rico and the USVI). For each of the Puerto Rico, St. Thomas/St. John, and St. Croix FMPs, the action would also modify the composition of the stocks to be managed; organize those stocks for effective management; establish status determination criteria, management reference points, and accountability measures for managed stocks; identify essential fish habitat for stocks new to management; and establish framework measures.

Timetable:

Action | Date | FR Cite
NPRM | 07/00/20 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

17. International Fisheries; South Pacific Tuna Fisheries; Implementation of Amendments to the South Pacific Tuna Treaty

E.O. 13771 Designation: Not subject to, not significant.

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 06/00/20 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

18. Illegal, Unregulated, and Unreported Fishing; Fisheries Enforcement; High Seas Driftnet Fishing Moratorium Protection Act

E.O. 13771 Designation: Regulatory.

Legal Authority: Pub. L. 114-81

Abstract: This proposed rule will make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule will also implement the Port State Measures Agreement. To that end, this proposed rule will require the collection of certain information from foreign fishing vessels requesting permission to use U.S. ports. It also includes procedures to designate and publicize the ports to which foreign fishing vessels may seek entry and procedures for conducting inspections of these foreign vessels accessing U.S. ports. Further, the rule establishes procedures for notification of: The denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 06/00/20 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BG11

19. International Fisheries; Western and Central Pacific Fisheries for Highly Migratory Species; Requirements To Safeguard Fishery Observers

E.O. 13771 Designation: Not subject to, not significant.

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 08/00/20 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

20. Regulatory Amendment to the Pacific Coast Groundfish Fishery Management Plan To Implement an Electronic Monitoring Program for Bottom Trawl and Non-Whiting Midwater Trawl Vessels

E.O. 13771 Designation: Deregulatory.

Legal Authority: 16 U.S.C. 1801 et seq.

Abstract: The proposed action would implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action is intended to increase operational flexibility and reduce monitoring costs for the fleet.

Timetable:

Action | Date | FR Cite
NPRM | 06/00/20 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH70

21. Amendment 21 to the Summer Flounder, Scup, and Black Sea Bass Fishery Management Plan

E.O. 13771 Designation: Not subject to, not significant.

Legal Authority: 16 U.S.C. 1801 et seq.

Abstract: This rulemaking action proposes measures recommended by the Mid-Atlantic Fishery Management Council and Atlantic States Marine Fisheries Commission that would adjust the current state-by-state commercial quota allocations in the summer flounder fishery and update the goals and objective for summer flounder fishery management in the Summer Flounder, Scup, and Black Sea Bass Fishery Management Plan (FMP). The revised quota allocation would maintain the current state-by-state allocation percentages when distributing the annual coastwide quota up to 9.55 million pounds. In years when the coastwide quota is above 9.55 million pounds, additional quota beyond this trigger would be distributed in equal shares to all states except Maine, Delaware, and New Hampshire (i.e., states with very little directed fishing effort), which would split one percent of the additional quota. The current state-by-state quota allocations have not been adjusted since originally implemented in 1993. The intent of this amendment is to modify the allocations to respond to changes in summer flounder distribution while also recognizing the states' historical reliance on summer flounder. The Council and Board intend to review the adjusted quota allocations again in no more than 10 years.

Timetable:

Action | Date | FR Cite
NPRM | 06/00/20

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ18

22. • Establish National Insurance Requirements for Observer Providers

E.O. 13771 Designation: Other.

Legal Authority: 16 U.S.C. 1855(d)

Abstract: NMFS is proposing to establish uniform, nationally applicable minimum insurance requirements for companies that provide observer or at-sea monitor services for federally managed fisheries subject to monitoring requirements. This action would supersede outdated or inappropriate regulatory insurance requirements thereby easing the regulatory and cost burden for observer/at-sea monitor providers. Additionally, this action would mitigate potential liability risks associated with observer and at-sea monitor deployments for vessel owners and shore side processors that are subject to monitoring requirements.

Timetable:

Action | Date | FR Cite
NPRM | 06/00/20

Regulatory Flexibility Analysis Required: Yes.

Agency Contact: David Detlor, Acting Director, Office of Science and Technology, National Marine Fisheries Service, Department of Commerce, National Oceanic and Atmospheric Administration, 1315 East-West Highway, Room 12450, Silver Spring, MD 20910, Phone: 301 427-8100, Email: david.detlor@noaa.gov.

RIN: 0648-BJ33

23. • Bering Sea and Aleutian Islands Pacific Cod Pot Catcher/Processor License Limitation Program Adjustment

E.O. 13771 Designation: Not subject to, not significant.

Legal Authority: 16 U.S.C. 1801 et seq.

Abstract: In response to a recommendation by the North Pacific Fishery Management Council (Council), this action announces the establishment of a control date for the Bering Sea and Aleutian Islands (BSAI) Pacific cod pot catcher/processor sector. Currently, pot catcher/processor vessels fishing for Pacific cod in the BSAI are required to have a License Limitation Program (LLP) that is endorsed for fishing Pacific cod by gear type, operational type, and area. The Council is evaluating participation and effort in the BSAI Pacific cod catcher/processor fishery in response to a potential need to control entry and participation in the Pacific cod pot catcher/processor sector. Specifically, the Council is considering options to address and potentially eliminate latent Bering Sea pot catcher/processor endorsed LLPs (which are LLP endorsements not recently utilized) in order to increase stability for Pacific cod-dependent pot catcher/processors, maintain consistently low rates of halibut and crab bycatch, and ensure that condensed fishing seasons do not result in safety-at-sea concerns. The Council may use the control date if it decides to recommend removing latent BSAI Pacific cod endorsements on pot catcher/processor LLPs to limit participation in the sector. Any fishing activity after the control date would not be assured to be considered should the Council recommend and NMFS implement a regulatory amendment to remove latent LLP endorsements. This announcement is intended, in part, to promote awareness of the potential eligibility criteria for future access to discourage speculative entry into the BSAI Pacific cod sector while the Council and NMFS consider whether and how access to the sector should be further controlled.

Timetable:

Action | Date | FR Cite
ANPRM | 12/10/19 | 84 FR 67421
ANPRM Comment Period End | 12/10/19
NPRM | 04/00/21

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BJ42

24. • Amendment 121 to the Fishery Management Plan for Groundfish of the Bering Sea and Aleutian Islands Management Area and Amendment 110 to the Fishery Management Plan for Groundfish of the Gulf of Alaska

E.O. 13771 Designation: Deregulatory.

Legal Authority: 16 U.S.C. 1801 et seq.

Abstract: This action proposes to implement the North Pacific Fishery Management Council's Amendments to the Bering Sea/Aleutian Islands (Amendment 121) and Gulf of Alaska (Amendment 110) Groundfish Fishery Management Plans (FMPs). These Amendments would move sculpins into the Ecosystem Component of the FMPs, which is a category of non-target species that are not in need of conservation and management. Magnuson-Stevens Act National Standard guidelines include options to identify non-target species in FMPs (species caught incidentally during the pursuit of target stocks in a fishery) that do not require conservation and management as ecosystem component species. As an Ecosystem Component, this action proposes that catch specifications for sculpins (Overfishing Level, Acceptable Biological Catch, Total Allowable Catch) would no longer be required, but instead, regulations would prohibit directed fishing forsculpins, require recordkeeping and reporting to monitor and report catch of sculpins annually, and establish a sculpins maximum retainable amount when directed fishing for groundfish species at 20 percent to discourage retention while allowing flexibility to prosecute groundfish fisheries. This proposed action would free up approximately 5,000 metric tons (mt) of total allowable catch (TAC) under the 2 million mt optimum yield limit for the Bering Sea/Aleutian Islands management area. This TAC could be allocated to any groundfish target species during the annual harvest specifications process, thereby allowing for some flexibility with allocations.

Timetable:

Action | Date | FR Cite
Notice of Availability | 03/23/20 | 85 FR 13610
NPRM | 04/23/20 | 85 FR 22703
NPRM Comment Period End | 05/23/20
Final Action | 08/00/20

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BJ49

25. • Salmon Bycatch Minimization in the Pacific Coast Groundfish Fishery

E.O. 13771 Designation: Not subject to, not significant.

Legal Authority: 16 U.S.C. 1801 et seq.

Abstract: The proposed action would implement salmon bycatch minimization measures in the Pacific Coast groundfish fishery to comply with the terms and conditions of a December 2017 biological opinion on Endangered Species Act-listed salmon interactions in the groundfish fishery. The proposed action would establish additional management tools (e.g., area-based closures and gear restrictions) the Council and NMFS could use as needed to keep fishery sectors within Chinook and coho salmon bycatch guidelines as established in a prior rulemaking. The proposed action would establish the rules or circumstances under which the fishery sectors would be allowed to access an established salmon bycatch Reserve. Under the proposed action, NMFS is required to take an action before fishery participants can access the Reserve; such action may include implementation of a measure such as an area-based closure or gear restriction, or approval of a plan outlining how a whiting cooperative will minimize its salmon bycatch. Finally, the proposed action would change the bycatch levels at which the trawl fishery would be closed in order to preserve 500 Chinook salmon as bycatch so that the recreational and fixed gear fisheries could continue operating in years of high trawl fishery bycatch.

Timetable:

Action | Date | FR Cite
NPRM | 06/00/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BJ50

26. • Modification of Multi-Day Trip Possession Limits for Federally-Permitted Charter/Headboat Vessels in the Fishery Management Plans (FMP) in the Gulf of Mexico

E.O. 13771 Designation: Not subject to, not significant.

Legal Authority: 16 U.S.C. 1801 et seq.

Abstract: This rule would promote efficiency in the utilization of the reef fish and CMP resources and a potential decrease in regulatory discards by providing the owners and operators of federally permitted for-hire vessels greater flexibility in determining when to allow passengers to retain the possession limit on multi-day trips. The rule would modify the on-board possession limit for federal for-hire trips in the Gulf of Mexico, which currently allows anglers to retain two daily bag limits on a trip more than 24 hours, after the first 24 hours of that trip. The rule would increase the required trip duration to more than 30 hours, but would allow anglers to retain the second daily bag limit at any time after the federal for-hire vessel leaves the dock. All other requirements to retain the possession limit would be unchanged. In addition, this rule would modify the language in 622.21(a)(3)(iii) and 622.22(a)(3)(iii). The change would remove the wording `sequentially coded' from the sentence `NMFS will provide each Individual Fishing Quota (IFQ) dealer the necessary paper forms, sequentially coded, and instructions for submission of the forms to the RA'.

Timetable:

Action | Date | FR Cite
NPRM | 06/00/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BJ60

27. Designation of Critical Habitat for the Arctic Ringed Seal

E.O. 13771 Designation: Regulatory.

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Proposed Rule 2 | 09/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC56

28. Amendment and Updates to the Pelagic Longline Take Reduction Plan

E.O. 13771 Designation: Not subject to, not significant.

Legal Authority: 16 U.S.C. 1361 et seq.

Abstract: Serious injury and mortality of the Western North Atlantic short-finned pilot whale stock incidental to the Category I Atlantic pelagic longline fishery continues at levels exceeding their Potential Biological Removal. This proposed action will examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 06/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF90

29. Designation of Critical Habitat for the Threatened Caribbean Corals

E.O. 13771 Designation: Regulatory.

Legal Authority: 16 U.S.C. 1531 et seq.

Abstract: NMFS listed 5 Caribbean corals as threatened under the Endangered Species Act on October 10, 2014. Critical habitat shall be designated to the maximum extent prudent and determinable at the time a species is proposed for listing (50 CFR 424.12). We concluded that critical habitat was not determinable for the 5 corals at the time of listing. However, we anticipated that critical habitat would be determinable in the future given on-going research. We, therefore, announced in the final listing rules that we would propose critical habitat in separate rulemakings. This rule proposes to designate critical habitat for the 5 Caribbean coral species listed in 2014. A separate proposed critical habitat rule is being prepared for the 15 Indo-Pacific corals listed as threatened in 2014. The proposed designation for the Caribbean corals may include marine waters in Florida, Puerto Rico, US Virgin Islands, Navassa Island, and Flower Garden Banks containing essential features that support all stages of life history of the corals. The proposed rule is not likely to have an annual effect on the economy of $100 million or more or adversely affect the economy. NMFS has contacted the Departments of the Navy, Air Force, and Army as well as the U.S. Coast Guard requesting information related to potential national security impacts that may result from the critical habitat designation. Based on information provided, we concluded that there will be an impact on national security in only 1 area offshore Dania Beach, FL, and will propose to exclude it from the designations.

Timetable:

Action | Date | FR Cite
NPRM | 07/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG26

30. Atlantic Large Whale Take Reduction Plan Modifications To Reduce Serious Injury and Mortality of Large Whales in Commercial Trap/Pot Fisheries Along the U.S. East Coast

E.O. 13771 Designation: Regulatory.

Legal Authority: 16 U.S.C. 1387 et seq.

Abstract: In response to recent recommendations from the Atlantic Large Whale Take Reduction Team (TRT) to reduce the risk of North Atlantic right whale entanglement in commercial trap/pot fisheries along the U.S. East Coast, the National Marine Fisheries Service (NMFS) intends to propose regulations to amend the Atlantic Large Whale Take Reduction Plan (Plan). In April 2019, the TRT recommended that state and Federal East Coast fisheries reduce vertical lines through gear reconfigurations and potential lobster trap allocation caps, as well as modify fishing gear to reduce the breaking strength of rope. The TRT also recommended additional buoy line marking and additions or modifications to areas that are already closed to trap/pot fishing. The state government members of the TRT are collaborating with the TRT's industry representatives to scope and develop the appropriate management measures to achieve the TRT's recommendations for fisheries operating in state waters. Based on what state measures are developed, this rulemaking action would propose comparable management measures for fisheries operating in Federal waters.

Timetable:

Action | Date | FR Cite
NPRM | 07/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BJ09

DEPARTMENT OF COMMERCE (DOC)

National Oceanic and Atmospheric Administration (NOAA)

Final Rule Stage

National Marine Fisheries Service

31. Commerce Trusted Trader Program

E.O. 13771 Designation: Deregulatory.

Legal Authority: 16 U.S.C. 1801 et seq.

Abstract: This rule will establish a voluntary Commerce Trusted Trader Program for importers, aiming to provide benefits such as reduced targeting and inspections and enhanced streamlined entry into the United States for certified importers. Specifically, this rule would establish the criteria required of a Commerce Trusted Trader, and identify specifically how the program will be monitored and by whom. It will require that a Commerce Trusted Trader establish a secure supply chain and maintain the records necessary to verify the legality of all designated product entering into U.S. commerce, but will excuse the Commerce Trusted Trader from entering that data into the International Trade Data System prior to entry, as required by Seafood Import Monitoring Program (finalized on December 9, 2016). The rule will identify the benefits available to a Commerce Trusted Trader, detail the application process, and specify how the Commerce Trusted Trader will be audited by third-party entities while the overall program will be monitored by the National Marine Fisheries Service.

Timetable:

Action | Date | FR Cite
NPRM | 01/17/18 | 83 FR 2412
NPRM Comment Period End | 03/19/18
Withdrawal | 06/00/20

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BG51

32. Rule To Implement the For-Hire Reporting Amendments

E.O. 13771 Designation: Not subject to, not significant.

Legal Authority: 16 U.S.C. 1801 et seq.

Abstract: This rule proposes to implement Amendment 39 for the Snapper-Grouper Fishery of the South Atlantic Region, Amendment 9 for the Dolphin and Wahoo Fishery of the Atlantic, and Amendment 27 to the Coastal Migratory Pelagics Fishery of the Gulf of Mexico and Atlantic Regions (For-Hire Reporting Amendments). The For-Hire Reporting Amendments rule proposes mandatory weekly electronic reporting for charter vessel operators with a Federal for-hire permit in the snapper-grouper, dolphin wahoo, or coastal migratory pelagics fisheries; reduces the time allowed for headboat operators to complete their electronic reports; and requires location reporting by charter vessels with the same level of detail currently required for headboat vessels.

Timetable:

Action | Date | FR Cite
Notice of Availability | 03/14/18 | 83 FR 11164
NPRM | 04/04/18 | 83 FR 14400
NPRM Comment Period End | 05/04/18 |
Final Action | 02/24/20 | 85 FR 10331
Final Rule | 07/00/20 |
Final Action Effective | 09/01/20 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG75

33. New England Industry-Funded Monitoring Amendment

E.O. 13771 Designation: Not subject to, not significant.

Legal Authority: 16 U.S.C. 1801 et seq.

Abstract: This rule implements measures for industry funding and prioritizing available Federal funding to pay for additional monitoring, consistent with specific monitoring coverage targets recently set by the New England Fishery Management Council, for New England fishery management plans. Specifically, this action would modify all the New England fishery management plans to allow standardized development of future, plan-specific, industry-funded monitoring programs. This action would also prioritize industry-funded monitoring programs across New England fishery management plans when available Federal funding falls short of the total needed to fully fund all monitoring programs. Finally, this rule implements industry-funded monitoring requirements for the Atlantic Herring fishery management plan.

Timetable:

Action | Date | FR Cite
Notice of Availability | 09/19/18 | 83 FR 47326
NPRM | 11/07/18 | 83 FR 55665
NPRM Comment Period End | 12/24/18 |
Final Action | 02/07/20 | 85 FR 7414
Final Action Effective | 03/09/20 |
Correcting Amendment | 06/00/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BG91

34. Area of Overlap Between the Convention Areas of the Inter-American Tropical Tuna Commission and the Western and Central Pacific Fisheries Commission

E.O. 13771 Designation: Deregulatory.

Legal Authority: 16 U.S.C. 6901 et seq.; 16 U.S.C. 951 et seq.

Abstract: Under authority of the Western and Central Pacific Fisheries Convention Implementation Act and the Tuna Conventions Act, an area of overlap (overlap area) exists between the respective areas of competence of the Commission for the Conservation and Management of Highly Migratory Fish Stocks in the Western and Central Pacific Ocean and the Inter-American Tropical Tuna Commission. NMFS proposes to change the application of the two Commissions' management decisions in the overlap area to specifically apply Inter-American Tropical Tuna Commission management measures in the overlap area rather than those of the Commission for the Conservation and Management of Highly Migratory Fish Stocks in the Western and Central Pacific Ocean that currently apply there.

Timetable:

Action | Date | FR Cite
ANPRM | 06/12/18 | 83 FR 27305
ANPRM Comment Period End | 07/12/18 |
NPRM | 11/07/19 | 84 FR 60040
NPRM Comment Period End | 11/22/19 |
Final Action | 06/00/20 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BH59

35. Omnibus Deep-Sea Coral Amendment

E.O. 13771 Designation: Regulatory.

Legal Authority: 16 U.S.C. 1801 et seq.

Abstract: This action would implement the New England Fishery Management Council's Omnibus Deep-Sea Coral Amendment. The Amendment would implement measures that reduce impacts of fishing gear on deep-sea corals in the Gulf of Maine and on the outer continental shelf. In doing so, this action would prohibit the use of mobile bottom-tending gear in two areas in the Gulf of Maine (Mount Desert Rock and Outer Schoodic Ridge), and it would prohibit the use of all gear (with an exception for red crab pots) along the outer continental shelf in waters deeper than a minimum of 600 meters.

Timetable:

Action | Date | FR Cite
Notice of Availability | 08/26/19 | 84 FR 44596
NPRM | 01/03/20 | 85 FR 285
NPRM Comment Period End | 02/18/20 |
Final Action | 07/00/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH67

36. Generic Amendment to the Fishery Management Plans for the Reef Fish Resources of the Gulf of Mexico and Coastal Migratory Pelagic Resources in the Gulf of Mexico and Atlantic Region

E.O. 13771 Designation: Not subject to, not significant.

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
Notice of Availability | 06/21/18 | 83 FR 28797
NPRM | 10/26/18 | 83 FR 54069
Correction | 11/08/18 | 83 FR 55850
Comment Period Extended | 11/20/18 | 83 FR 58522
NPRM Comment Period End | 11/26/18 |
Comment Period Extended End | 01/09/19 |
Final Action | 06/00/20 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH72

37. Magnuson-Stevens Fisheries Conservation and Management Act; Traceability Information Program for Seafood

E.O. 13771 Designation: Regulatory.

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking would establish permitting, reporting and recordkeeping requirements for domestic producers of shrimp and abalone from the point of production to entry into commerce.

Timetable:

Action | Date | FR Cite
NPRM | 10/11/18 | 83 FR 51426
NPRM Comment Period End | 11/26/18 |
Final Action | 06/00/20 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BH87

38. Vessel Movement, Monitoring, and Declaration Management Enhancement for the Pacific Coast Groundfish Fishery; Pacific Coast Groundfish Fishery Management Plan

E.O. 13771 Designation: Deregulatory.

Legal Authority: 16 U.S.C. 1801 et seq.

Abstract: This rulemaking action would implement the Pacific Fishery Management Council's action to implement various measures that provide more efficient and effective monitoring, improve enforcement of restricted areas, and reduce costs for the Pacific coast groundfish fleet. This action would: Increase the required frequency of signals transmitted from type-approved vessel monitoring system (VMS) units from once per hour to every 15 minutes to provide finer-scale vessel location data; allow vessels to use alternative VMS units; add a VMS declaration to indicate when a vessel is testing gear; allow vessels participating in the midwater trawl whiting fishery to change their declaration while at-sea to select a new whiting fishery; and allow vessels to move pot gear from one management area to another during a single trip while retaining fish from the primary management area.

Timetable:

Action | Date | FR Cite
NPRM | 10/10/19 | 84 FR 54579
NPRM Comment Period End | 11/12/19
Final Action | 06/11/20 | 85 FR 35594
Final Action Effective | 07/13/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI45

39. Framework Adjustment 59 to the Northeast Multispecies Fishery Management Plan

E.O. 13771 Designation: Not subject to, not significant.

Legal Authority: 16 U.S.C. 1801 et seq.

Abstract: This rulemaking action proposes to implement management measures included in the New England Fishery Management Council's Framework Adjustment 59 to the Northeast Multispecies Fishery Management Plan (Framework 59) developed in response to new scientific information. The proposed action would set fishing years 2020-2022 specifications for 15 groundfish stocks, and fishing year 2020 total allocable catches (TAC) for the three U.S./Canada stocks: Eastern Georges Bank cod, Eastern Georges Bank haddock, and Georges Bank yellowtail flounder. This action would also revise the Georges Bank cod incidental TAC to remove the allocation to the Closed Area I Hook Gear Haddock Special Access Program, and as necessary in response to any new data coming from the Marine Recreational Information Program, address commercial/recreational allocation issues.

Timetable:

Action | Date | FR Cite
NPRM | 05/29/20 | 85 FR 32347
NPRM Comment Period End | 06/15/20 |
Final Action | 07/00/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ12

40. Vessel Monitoring Systems; Amendment to Type—Approval Requirements

E.O. 13771 Designation: Deregulatory.

Legal Authority: 16 U.S.C. 1801 et seq.

Abstract: The U.S. Vessel Monitoring System (VMS) program type-approves enhanced mobile transceiver units (EMTUs) for use in the U.S. Currently, the only option for transferring VMS data from ship to NMFS is by satellite-linked communication services. All owners of vessels participating in the NOAA VMS program are required to carry a NMFS-approved EMTU or MTU to comply with the Vessel Monitoring System requirements. The proposed rule would modify the type-approval requirements to allow for communication service by cellular EMTUs (EMTU-Cs), in addition to satellite-only models. The need for the rule is to set out procedures and requirements for initial type-approvals; compliance with, and revocations and appeals of type-approvals; and technical, service, and performance specifications. This would allow EMTU-Cs to be type-approved and used in certain federally managed fisheries with a VMS requirement. Generally, cellular communication services come at a significantly lower cost than satellite services. A lower cost could ease the financial burden on fishermen, while providing NMFS with additional capabilities to manage fishery resources, and to protect marine species and ecologically sensitive areas.

Timetable:

Action | Date | FR Cite
NPRM | 01/24/20 | 85 FR 4257
NPRM Comment Period End | 02/24/20
Final Action | 06/00/20

Regulatory Flexibility Analysis Required: Yes.

Agency Contact: James Landon, Department of Commerce, National Oceanic and Atmospheric Administration, 1315 East-West Hwy., Bldg. SSMC 3, Room 3151, Silver Spring, MD 20910, Phone: 301 427-8245, Email: james.landon@noaa.gov.

RIN: 0648-BJ15

41. • Regulatory Amendment To Adjust the North Pacific Observer Program Partial Coverage Fee

E.O. 13771 Designation: Not subject to, not significant.

Legal Authority: 16 U.S.C. 1801 et seq.

Abstract: In response to a recommendation by the North Pacific Fishery Management Council, this action would modify the fee percentage assessed on groundfish and halibut landings made by vessels operating in the Bering Sea and Aleutian Islands and Gulf of Alaska management areas. This action would increase the observer fee from 1.25 percent to 1.65 percent of the ex-vessel value of landings made by vessels that are not in the full coverage category. Fee revenues are used to fund deployment of observers and electronic monitoring (EM) in the partial coverage category of the North Pacific Observer Program. This action is necessary to provide additional funding to deploy observers and EM in the partial coverage category to better meet monitoring objectives for the North Pacific Observer Program. Section 313 of the Magnuson-Stevens Fishery Conservation and Management Act establishes that data collected by well- trained, independent observers and EM are a cornerstone of the sustainable management of Federal fisheries off Alaska.

Timetable:

Action | Date | FR Cite
NPRM | 03/09/20 | 85 FR 13618
NPRM Comment Period End | 04/08/20
Final Action | 07/00/20

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BJ40

42. Reducing Disturbances to Hawaiian Spinner Dolphins From Human Interactions

E.O. 13771 Designation: Not subject to, not significant.

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06
NPRM | 08/24/16 | 81 FR 57854
NPRM Comment Period End | 10/23/16
NPRM Comment Period Reopened | 11/16/16 | 81 FR 80629
NPRM Comment Period Reopened End | 12/01/16
Final Action | 07/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AU02

43. Taking and Importing Marine Mammals: Taking Marine Mammals Incidental to Geophysical Surveys Related to Oil and Gas Activities in the Gulf of Mexico

E.O. 13771 Designation: Other.

Legal Authority: 16 U.S.C. 1361 et seq.

Abstract: The National Marine Fisheries Service is taking this action in response to an October 17, 2016, petition from the U.S. Department of Interior (DOI), Bureau of Ocean Energy Management (BOEM), to promulgate regulations governing the authorization of take of marine mammals incidental to oil and gas industry geophysical surveys conducted in support of hydrocarbon exploration and development on the Outer Continental Shelf in the Gulf of Mexico from approximately 2019 through 2024.

Timetable:

Action | Date | FR Cite
NPRM | 06/22/18 | 83 FR 29212
NPRM Comment Period End | 08/21/18
Final Action | 06/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BB38

44. Revision to Critical Habitat Designation for Endangered Southern Resident Killer Whales

E.O. 13771 Designation: Regulatory.

Legal Authority: 16 U.S.C. 1531 et seq.

Abstract: The proposed action would revise the designation of critical habitat for the endangered Southern Resident killer whale distinct population segment, pursuant to section 4 of the Endangered Species Act. Critical habitat for this population is currently designated within inland waters of Washington. In response to a 2014 petition, NMFS is proposing to expand the designation to include areas occupied by Southern Resident killer whales in waters along the U.S. West Coast. Impacts from the designation would stem mainly from Federal agencies' requirement to consult with NMFS, under section 7 of the Endangered Species Act, to ensure that any action they carry out, permit (authorize), or fund will not result in the destruction or adverse modification of critical habitat of a listed species. Federal agencies are already required to consult on effects to the currently designated critical habitat in inland waters of Washington, but consultation would be newly required for actions affecting the expanded critical habitat areas. Federal agencies are also already required to consult within the Southern Resident killer whales' range (including along the U.S. West Coast) to ensure that any action they carry out, permit, or fund will not jeopardize the continued existence of the species; this requirement would not change with a revision to the critical habitat designation.

Timetable:

Action | Date | FR Cite
NPRM | 09/19/19 | 84 FR 49214
NPRM Comment Period End | 12/18/19
Final Rule | 09/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BH95

45. Designation of Critical Habitat for the Mexico, Central American, and Western Pacific Distinct Population Segments of Humpback Whales Under The Endangered Species Act

E.O. 13771 Designation: Regulatory.

Legal Authority: 16 U.S.C. 1531 et seq.

Abstract: This action will propose the designation of critical habitat for three distinct population segments of humpback whales (Megaptera novaeangliae) pursuant to section 4 of the Endangered Species Act. The three distinct population segments of humpback whales concerned—the Mexico, Central American, and Western Pacific distinct population segments—were listed under the Endangered Species Act on September 8, 2016, thereby triggering the requirement under section 4 of the Endangered Species Act to designate critical habitat to the maximum extent prudent and determinable. Proposed critical habitat for these three distinct population segments of humpback whales will include marine habitats within the Pacific Ocean and Bering Sea and will likely overlap with several existing designations, including critical habitat for leatherback sea turtles, North Pacific right whales, Steller sea lions, southern resident killer whales, and the southern distinct population segment of green sturgeon. Impacts from the designations for humpback whales would stem from the statutory requirement for Federal agencies to consult with NMFS, under section 7 of the Endangered Species Act, to ensure that any action they carry out, authorize, or fund will not result in the destruction or adverse modification of humpback whale critical habitat. Within many of the areas we are evaluating for potential proposal as critical habitat for the humpback whales distinct population segments, Federal agencies are already required to consult on effects to currently designated critical habitat for other listed species. Federal agencies are also already required to consult with NMFS under section 7 of the Endangered Species Act to ensure that any action they authorize, fund or carry out will not jeopardize the continued existence of the listed distinct population segments of humpback whales.

Timetable:

Action | Date | FR Cite
NPRM | 10/09/19 | 84 FR 54354
NPRM Comment Period End | 12/09/19
NPRM Comment Period Extended | 11/27/19 | 84 FR 65346
NPRM Comment Period Extended End | 01/31/20
Final Action | 10/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BI06

NOS/ONMS

46. Wisconsin—Lake Michigan National Marine Sanctuary Designation

E.O. 13771 Designation: Regulatory.

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17
Final Action | 06/00/20

Regulatory Flexibility Analysis Required: Yes.

Agency Contact: Vicki Wedell, Department of Commerce, National Oceanic and Atmospheric Administration, 1305 East-West Highway (N/ORM6), Silver Spring, MD 20910, Phone: 240 533-0650, Email: vicki.wedell@noaa.gov.

RIN: 0648-BG01

DEPARTMENT OF COMMERCE (DOC)

National Oceanic and Atmospheric Administration (NOAA)

Long-Term Actions

National Marine Fisheries Service

47. Implementation of a Program for Transshipments by Large Scale Fishing Vessels in the Eastern Pacific Ocean

E.O. 13771 Designation: Not subject to, not significant.

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
To Be Determined | To Be Determined

Regulatory Flexibility Analysis Required: Yes.

Agency Contact: Barry Thom, Phone: 503 231-6266, Email: barry.thom@noaa.gov.

RIN: 0648-BD59

48. International Fisheries; Western and Central Pacific Fisheries for Highly Migratory Species; Treatment of U.S. Purse Seine Fishing With Respect to U.S. Territories

E.O. 13771 Designation: Deregulatory.

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15
To Be Determined | To Be Determined

Regulatory Flexibility Analysis Required: Yes.

Agency Contact: Michael Tosatto, Phone: 808 725-5000, Email: michael.tosatto@noaa.gov.

RIN: 0648-BF41

DEPARTMENT OF COMMERCE (DOC)

National Oceanic and Atmospheric Administration (NOAA)

Completed Actions

49. Comprehensive Fishery Management Plan for St. Croix

E.O. 13771 Designation: Not subject to, not significant.

Legal Authority: 16 U.S.C. 1801 et seq.

Abstract: This rule would implement a comprehensive St. Croix Fishery Management Plan. The Plan would incorporate, and modify as needed, Federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. This new Plan, in conjunction with similar comprehensive Fishery Management Plans being developed for Puerto Rico and St. Thomas/St. John, would replace the Spiny Lobster, Reef Fish, Coral and Queen Conch Fishery Management Plans presently governing the commercial and recreational harvest in U.S. Caribbean exclusive economic zone waters.

Timetable:

Action | Date | FR Cite
Merged With 0648-BD32 | 01/31/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

50. Comprehensive Fishery Management Plan for St. Thomas/St. John

E.O. 13771 Designation: Not subject to, not significant.

Legal Authority: 16 U.S.C. 1801 et seq.

Abstract: This rule would implement a comprehensive St. Thomas/St. John Fishery Management Plan. The Plan would incorporate, and modify as needed, Federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. This new Plan, in conjunction with similar comprehensive Fishery Management Plans being developed for St. Croix and Puerto Rico, would replace the Spiny Lobster, Reef Fish, Coral and Queen Conch Fishery Management Plans presently governing the commercial and recreational harvest in U.S. Caribbean exclusive economic zone waters.

Timetable:

Action | Date | FR Cite
Merged With 0648-BD32 | 01/31/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

51. Jonah Crab Fishery; Interstate Fishery Management Plan for Jonah Crab

E.O. 13771 Designation: Not subject to, not significant.

Legal Authority: 16 U.S.C. 1801 et seq.; 16 U.S.C. 5101 et seq.

Abstract: The National Marine Fisheries Service implements Federal Jonah crab regulations to help achieve the goal of the Atlantic States Marine Fisheries Commission's Interstate Fishery Management Plan to promote Jonah crab conservation, reduce the possibility of recruitment failure, and allow the industry to continue fishing the resource at present levels. The Jonah Crab Plan was developed out of concern for potential impacts to the status of the Jonah crab resource, given the recent and rapid increase in landings. Commercial and recreational measures and reporting requirements were recommended for Federal implementation in the Jonah Crab Plan. Measures include: Permitting, minimum size, prohibition on retaining egg-bearing females, and incidental bycatch limit, and reporting requirements that are consistent with American lobster fishery requirements. Most States have implemented measures consistent with the Plan. These measures complement those implemented by the States.

Timetable:

Action | Date | FR Cite
ANPRM | 10/13/16 | 81 FR 70658
ANPRM Comment Period End | 11/14/16
NPRM | 03/22/19 | 84 FR 10756
NPRM Comment Period End | 04/22/19
Final Action | 11/13/19 | 84 FR 61569
Final Action Effective | 12/12/19

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BF43

52. Vision Blueprint Commercial Regulatory Amendment 27 to the Fishery Management Plan for the Snapper-Grouper Fishery of the South Atlantic Region

E.O. 13771 Designation: Deregulatory.

Legal Authority: 16 U.S.C. 1801 et seq.

Abstract: During a series of stakeholder meetings in 2014, the South Atlantic Fishery Management Council (Council) gathered input from commercial fishermen throughout the region. Based on the input, the Council developed the 2016-2020 Vision Blueprint for the commercial sector of the Snapper-Grouper Fishery Management Plan (Vision Blueprint). The Vision Blueprint identifies the goals, objectives, strategies, and actions that support the vision for the snapper-grouper fishery. This rulemaking action implements Regulatory Amendment 27, which addresses specific action items in the Vision Blueprint for the commercial sector of the Snapper-Grouper FMP such as seasonal management, trip limits and minimum size limits, and intends to allow more equitable access, minimize discards, and achieve optimum yield.

Timetable:

Action | Date | FR Cite
NPRM | 10/17/19 | 84 FR 55531
NPRM Comment Period End | 11/18/19
Final Action | 01/27/20 | 85 FR 4588
Final Action Effective | 02/26/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI32

53. Amendment 21-4 to the Pacific Coast Groundfish Fishery Management Plan: Trawl Catch Share Program 5-Year Review Follow-On Actions

E.O. 13771 Designation: Deregulatory.

Legal Authority: 16 U.S.C. 1801 et seq.

Abstract: Based on the Pacific Fishery Management Council's and NOAA Fisheries 5-year review of the Pacific Coast Groundfish Fishery Trawl Catch Share Program, completed in 2017, this rulemaking action implements the Council's recommendation to adjust the Program. Adjustments are aimed at modifying outdated Program regulations and making the Program more effective, specifically by: Changing bycatch hard caps for canary rockfish and widow rockfish in the at-sea whiting sector to set asides; removing the formulas used to determine at-sea whiting sector set-aside amounts of canary rockfish, widow rockfish, darkblotched rockfish, and Pacific ocean perch, and instead determining appropriate amounts through the adaptive biennial harvest specification process; allowing post-season quota trading for vessel accounts in deficit at the end of the year; eliminating the September 1st expiration deadline for unused quota not transferred to a vessel account; setting permit ownership accumulation limits for the whiting Catcher Processor sector; and requiring new economic data collections for Catcher Processor permit owners and quota share owners to better evaluate Catch Share program performance. Similar collections are currently required for the shorebased catcher and at-sea mothership sectors; this action would provide complete economic performance data for all sectors of the Catch Share Program.

Timetable:

Action | Date | FR Cite
Notice of Availability | 08/30/19 | 84 FR 45706
NPRM | 10/10/19 | 84 FR 54561
NPRM Comment Period End | 10/29/19
Final Action | 12/17/19 | 84 FR 68799
Final Action Effective | 01/16/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI35

54. Framework Adjustment 13 to the Atlantic Mackerel, Squid, and Butterfish Fishery Management Plan

E.O. 13771 Designation: Deregulatory.

Legal Authority: 16 U.S.C. 1801 et seq.

Abstract: This rulemaking implemented the Mid-Atlantic Fishery Management Council's action to establish a rebuilding program that would rebuild the Atlantic mackerel stock within five years (by 2023), implement Atlantic mackerel catch limits for 2019-2021, and set a catch cap for river herring and shad in the mackerel fishery. The objectives of this action are to eliminate overfishing and rebuild this stock, as required by the Magnuson-Stevens Fishery Conservation and Management Act, and limit bycatch of river herring and shad in the Atlantic mackerel fishery. This action would: Set 2019-2021 Atlantic mackerel acceptable biological catch, establish a rebuilding program that sets commercial catch limits to rebuild the stock within five years, modify the directed fishery closure process to slow effort and harvest rates as the quota is approached and preserve sufficient quota for mackerel bycatch in other fisheries, and specify 2019-2021 river herring and shad catch caps for the mackerel fishery.

Timetable:

Action | Date | FR Cite
NPRM | 06/07/19 | 84 FR 26634
NPRM Comment Period End | 07/08/19
Final Action | 10/30/19 | 84 FR 58053
Final Action Effective | 11/29/19

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BI49

55. Atlantic Highly Migratory Species; Pelagic Longline Bluefin Tuna Area-Based and Weak Hook Management

E.O. 13771 Designation: Deregulatory.

Legal Authority: 16 U.S.C. 1801 et seq.; 16 U.S.C. 971 et seq.

Abstract: Atlantic Highly Migratory Species (HMS) fisheries are managed under the dual authority of the Magnuson-Stevens Conservation and Management Act (Magnuson-Stevens Act) and the Atlantic Tunas Convention Act (ATCA). This rulemaking will address the area-based and weak hook management measures for bluefin tuna in the pelagic longline fishery. NMFS implemented an individual bluefin tuna quota system for pelagic longline fishery participants in 2015. With this approach and its emphasis on individual vessel accountability, NMFS has determined some fleetwide measures may be redundant. This action would appropriately streamline regulations and increase flexibility to the Atlantic pelagic longline fishery while maintaining bycatch reduction and conservation and management obligations.

Timetable:

Action | Date | FR Cite
NPRM | 07/12/19 | 84 FR 33205
NPRM Correction | 08/08/19 | 84 FR 38918
NPRM Comment Period End | 09/30/19
Final Action | 04/02/20 | 85 FR 18812
Final Action Effective | 04/02/20

Regulatory Flexibility Analysis Required: Yes.

Agency Contact: Jennifer M. Wallace, Acting Director, Office of Sustainable Fisheries, Department of Commerce, National Oceanic and Atmospheric Administration, 1315 East-West Highway, Room 13362, Silver Spring, MD 20910, Phone: 301 427-8500, Email: jenni.wallace@noaa.gov.

RIN: 0648-BI51

56. Reduce Gulf of Mexico Red Grouper Annual Catch Limits and Annual Catch Targets

E.O. 13771 Designation: Not subject to, not significant.

Legal Authority: 16 U.S.C. 1801 et seq.

Abstract: The Gulf of Mexico Fishery Management Council (Council) has requested that NMFS publish a rule under section 305(c) of the Magnuson-Stevens Fishery Conservation and Management Act (MSA) to temporarily reduce the red grouper commercial and recreational Annual Catch Limits (ACLs) and associated Annual Catch Targets (ACTs). In October 2018, the Council's Scientific and Statistical Committee (SSC) reviewed the results of an interim analysis performed by the Southeast Fisheries Science Center and recommended that the Council reduce the red grouper commercial and recreational ACLs and ACTs, effective for the 2019 fishing year. In addition, there have been recent deceases in red grouper landings and public testimony at the October Council meeting expressed concern about the status of the red grouper stock. Therefore, the Council is developing a framework action to reduce the ACLs and ACTs. In the meantime, based on these recent unforeseen circumstances, and consistent with the Council's request, NMFS intends to implement a rule under MSA section 305(c) to establish lower red grouper ACLs and ACTs for 2019.

Timetable:

Action | Date | FR Cite
Proposed Emergency Rule | 03/05/19 | 84 FR 7864
Proposed Emergency Rule Comment Period End | 03/20/19
Final Emergency Rule | 05/17/19 | 84 FR 22389
Final Emergency Rule Effective | 05/17/19

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI63

57. Amendment 118 To Allow Halibut Retention in BSAI IFQ Pot Gear in the Fishery Management Plan for Groundfish of the BSAI

E.O. 13771 Designation: Deregulatory.

Legal Authority: 16 U.S.C. 1801 et seq.; 16 U.S.C. 773

Abstract: In response to the North Pacific Fisheries Management Council's recommendation, this action allows retention of halibut in pot gear in the Bering Sea and Aleutian Islands (BSAI), provided the operator holds sufficient halibut Individual Fishing Quota (IFQ) or Community Development Quota (CDQ) for that IFQ regulatory area. The purpose of this action is to improve efficient harvest of the halibut resource by (1) decreasing wastage of legal-size halibut discarded in the existing BSAI sablefish pot fishery, and (2) potentially reducing whale depredation of halibut from hook-and-line gear by authorizing the use of pot gear in the halibut IFQ and CDQ fisheries. Currently, halibut are only permitted to be harvested with hook-and-line gear. As part of this action, NMFS would require vessels interested in retaining halibut in pot gear in the BSAI to install and operate Vessel Monitoring Systems and daily fishing logbooks and close the Pribilof Island Habitat Conservation Zone to all fishing with pot gear. In the event that there is a conservation concern for bycatch of shellfish or groundfish species, NMFS would have the authority to close the directed longline and pot halibut fisheries in both the BSAI and the Gulf of Alaska.

Timetable:

Action | Date | FR Cite
Notice of Availability | 08/21/19 | 84 FR 43570
NPRM | 10/03/19 | 84 FR 52852
NPRM Correction | 10/28/19 | 84 FR 57687
NPRM Comment Period End | 11/04/19
Final Action | 01/08/20 | 85 FR 840
Final Action Effective | 02/07/20

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BI65

58. Interim 2019 Tribal Pacific Whiting Allocation and Require Consideration of Chinook Salmon Bycatch Before Reapportioning Tribal Whiting; Pacific Coast Groundfish

E.O. 13771 Designation: Not subject to, not significant.

Legal Authority: 16 U.S.C. 1801 et seq.

Abstract: NMFS issued a final rule for the tribal Pacific whiting (whiting) fishery off the coast of Washington State. The purpose is to establish an interim 2019 tribal whiting allocation, and to protect ESA-listed Chinook salmon, as required in the Terms and Conditions of a December 11, 2017, Biological Opinion. NMFS developed this rule after discussions with the affected tribes and the non-tribal fisheries interests. As in prior years, this allocation is an “interim” allocation that is not intended to set precedent for future years.

Timetable:

Action | Date | FR Cite
NPRM | 03/15/19 | 84 FR 9471
NPRM Comment Period End | 04/01/19
Final Rule | 05/10/19 | 84 FR 20578
Final Rule Effective | 05/10/19
Correcting Amendment | 12/02/19 | 84 FR 65925
Correcting Amendment Effective | 12/02/19

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI67

59. Requirements To Safeguard Fishery Observers in the Eastern Pacific Ocean

E.O. 13771 Designation: Not subject to, not significant.

Legal Authority: 16 U.S.C. 951 et seq.

Abstract: This rulemaking action would domestically implement recently adopted resolutions on improving observer safety at sea by parties to the Inter-American Tropical Tuna Commission (IATTC) and the Agreement on the International Dolphin Conservation Program (AIDCP), including the United States. The resolutions are binding for IATTC member nations and AIDCP Parties, and under the Tuna Conventions Act, 16 U.S.C. 951 et seq. and the Marine Mammal Protection Act of 1972, as amended. These resolutions aim to strengthen protections for observers required in longline and transshipment observer programs required under the IATTC and on purse seine vessels required by the AIDCP. In implementing them, this rulemaking proposes to include provisions that detail responsibilities for vessel owners and operators, responsibilities for IATTC and AIDCP members to which fishing vessels are flagged, responsibilities for members that have jurisdiction over ports, and responsibilities for observer providers. The action is necessary for the United States to satisfy its international obligations as a Member of the IATTC and AIDCP. This RIN was merged with 0648-BJ23.

Timetable:

Action | Date | FR Cite
Merged With 0648-BJ23 | 09/05/19

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI86

60. Framework Action To Reduce Gulf of Mexico Red Grouper Annual Catch Limits and Annual Catch Targets to the Fishery Management Plan for the Reef Fish Resources of the Gulf of Mexico

E.O. 13771 Designation: Not subject to, not significant.

Legal Authority: 16 U.S.C. 1801 et seq.

Abstract: NMFS proposes to implement management measures described in a framework action to the Fishery Management Plan (FMP) for the Reef Fish Resources of the Gulf of Mexico (Gulf), as prepared by the Gulf of Mexico Fishery Management Council (Council). The framework action is titled “Modification of Gulf of Mexico Red Grouper Annual Catch Limits and Annual Catch Targets.” This proposed rule would reduce the red grouper commercial and recreational annual catch limits (ACLs) and annual catch targets (ACTs). The purpose of this rule is to continue the Gulf red grouper commercial and recreational ACL and ACT reductions implemented through emergency rulemaking in 2019 to protect the stock and to continue to achieve optimum yield.

Timetable:

Action | Date | FR Cite
NPRM | 07/19/19 | 84 FR 34845
NPRM Comment Period End | 08/19/19
Final Action | 10/01/19 | 84 FR 52036
Final Action Effective | 10/31/19

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI95

61. Amendment 18 to the Fishery Management Plan for the Shrimp Fishery of the Gulf of Mexico, U.S. Waters

E.O. 13771 Designation: Deregulatory.

Legal Authority: 16 U.S.C. 1801 et seq.

Abstract: This action implements the Gulf of Mexico Fishery Management Council's Amendment 18 to the Shrimp Fishery Management Plan. It would do so by adjusting the target reduction goal for juvenile red snapper mortality in the Federal Gulf of Mexico (Gulf) shrimp trawl fishery in the 10-30 fathom depth zone, as well as modifying the Plan's framework procedure to streamline the process to make future modifications to this target reduction goal. As part of the Gulf red snapper rebuilding plan, NMFS previously capped effort in the Gulf shrimp fishery based on Council recommendation to protect juvenile red snapper caught as bycatch in shrimp nets. However, the Gulf red snapper stock is no longer overfished or undergoing overfishing, and the red snapper stock acceptable biological catch (ABC) has consistently increased under the rebuilding plan. Accordingly, this action is expected to promote economic stability and achievement of optimum yield in the Federal Gulf shrimp fishery by reducing effort constraints, while continuing to protect Gulf red snapper.

Timetable:

Action | Date | FR Cite
Notice of Availability | 08/01/19 | 84 FR 37611
NPRM | 08/29/19 | 84 FR 45459
NPRM Comment Period End | 09/30/19
Final Action | 02/06/20 | 85 FR 6816
Final Action Effective | 03/09/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI96

62. Revisions to the Seabird Avoidance Program for the Pacific Coast Groundfish Fishery Management Plan

E.O. 13771 Designation: Not subject to, not significant.

Legal Authority: 16 U.S.C. 1801 et seq.

Abstract: In response to a recommendation by the Pacific Fishery Management Council, this proposed rule would require commercial groundfish bottom longline vessels 26 feet length overall (LOA) and longer managed under the Pacific Coast Groundfish Fishery Management Plan (FMP) to deploy streamer lines or to set gear during civil twilight when fishing in Federal waters north of 36 degrees N latitude. The purpose of this proposed rule is to reduce interactions between seabirds, especially Endangered Species Act listed species, and groundfish longline gear. The action is necessary to fulfill terms and conditions of a 2017 biological opinion published by the United States Fish and Wildlife Service to minimize takes of endangered short-tailed albatross by the Pacific Coast groundfish fishery.

Timetable:

Action | Date | FR Cite
NPRM | 09/12/19 | 84 FR 48094
NPRM Comment Period End | 10/15/19
Final Rule | 12/11/19 | 84 FR 67674
Final Action Effective | 01/10/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI99

63. Amendment 120 to the Fishery Management Plan for Groundfish of the Bering Sea and Aleutian Islands Management Area and Amendment 108 to the Fishery Management Plan

E.O. 13771 Designation: Not subject to, not significant.

Legal Authority: 16 U.S.C. 1801 et seq.

Abstract: This rulemaking action proposes to implement a recommendation by the North Pacific Fishery Management Council (Council) to limit the number of catcher/processors (CPs) acting as motherships and taking deliveries of Pacific cod from trawl catcher vessels (CVs) in the Bering Sea and Aleutian Islands (BSAI) and the Gulf of Alaska (GOA) directed Pacific cod fisheries. In recent years, an unexpected increase in the number of CPs accepting such deliveries allowed under current regulations has resulted in increased deliveries of BSAI non-Community Development Quota Pacific cod by trawl CVs engaging in directed fishing to CPs acting as motherships, a corresponding decrease in the amount of Pacific cod delivered to shoreside processing facilities, and a faster-paced fishery (e.g., earlier closures of the fishing season due to quota being harvested). The Council determined that limiting the number of eligible licenses issued under the License Limitation Program (LLP) assigned to CPs to act as motherships in this fishery could reduce the portion of Pacific cod delivered offshore to recent historical levels, prevent further reductions in the amount of Pacific cod delivered to shoreside processors, and stabilize the fishing season duration. This action proposes to modify the LLP by establishing eligibility criteria, based on historic participation, for an endorsement to licenses assigned to CPs to act as motherships in this fishery. This action would also prohibit Amendment 80 sector CPs not designated on an Amendment 80 Quota Share (QS) permit and an Amendment 80 LLP license or not designated on an Amendment 80 LLP/QS license from receiving Pacific cod harvested in the directed Pacific cod fisheries in the BSAI and GOA. This prohibition would ensure that only an Amendment 80 replacement CP, as specified under Amendment 97 to the Fishery Management Plan for Groundfish of the BSAI Management Area (77 FR 59852, October 21, 2012), and not the replaced Amendment 80 CP, could participate in directed Pacific cod fisheries in the BSAI or the GOA. This would limit the expanded use of CPs once they leave the Amendment 80 program.

Timetable:

Action | Date | FR Cite
Notice of Availability | 08/21/19 | 84 FR 43576
NPRM | 09/27/19 | 84 FR 51092
NPRM Comment Period End | 10/28/19
Final Action | 12/20/19 | 84 FR 70064
Final Action Effective | 01/20/20

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BJ02

64. Framework Adjustment 6 and 2019-2021 Atlantic Herring Fishery Specifications

E.O. 13771 Designation: Not subject to, not significant.

Legal Authority: 16 U.S.C. 1801 et seq.

Abstract: This rulemaking action proposes to implement the New England Fishery Management Council's Framework Adjustment 6 to the Atlantic Herring Fishery Management Plan. Framework 6 includes the Atlantic herring fishery specifications (annual catch amounts for the 2019-2021 fishing years, as herring specifications are typically set for 3 years), updates to the overfished and overfishing definitions, and a change in the carryover provision for quota underages in the herring fishery. The specifications proposed in this rulemaking include annual gear-specific and area-specific catch caps for river herring and shad for Atlantic herring trips for the 2019-2021 fishing years. In implementing Framework 6, this action also proposes to update the overfished and overfishing definitions to be more consistent with the most recent Atlantic herring resource stock assessment and Amendment 8 to the Atlantic Herring Fishery Management Plan (which is being implemented through another rulemaking). Finally, it also proposes to temporarily suspend the carryover provision in the herring regulations that allows up to 10 percent of each Management sub-Area annual catch limit to be added to the quota for that sub-Area in the next applicable year.

Timetable:

Action | Date | FR Cite
NPRM | 01/28/20 | 85 FR 4932
NPRM Comment Period End | 02/12/20
Final Action Effective | 05/05/20
Final Action | 05/06/20 | 85 FR 26874

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ13

65. • Framework Action to the Fishery Management Plan for Reef Fish Resources of the Gulf of Mexico; Modification to the Recreational For-Hire Red Snapper Annual Catch Target (ACT) Buffer

E.O. 13771 Designation: Deregulatory.

Legal Authority: 16 U.S.C. 1801 et seq.

Abstract: In response to a recommendation by the Gulf of Mexico Fishery Management Council, this rulemaking action proposes to retain the 9 percent buffer between the annual catch target (ACT) and annual catch limit (ACL) for the red snapper for-hire component, which was first implemented in 2019. The ACT is used to set the season length and because the federal for-hire component landings have remained well below the ACL, the Gulf of Mexico Fishery Management Council (Council) and NMFS reduced the buffer between the ACT and ACL from 20 percent to 9 percent. This reduction was initially put in place for only the 2019 fishing season to coincide with the last year of exempted fishing permits that allowed each of the five Gulf states to set the season for private anglers landing in that state. However, given an ongoing rulemaking process to continue limited state management of the private angling component (0648-BI84), the Council recommended retention of the lower federal for-hire buffer. State management of the private-angling component is expected to reduce the uncertainty in private-angling landings and help constrain those landing to the private-angling ACL. Therefore, This will allow the federal for-hire component to continue to harvest more of the ACL while constraining landings to the component and total recreational ACL.

Timetable:

Action | Date | FR Cite
NPRM | 11/12/19 | 84 FR 61003
NPRM Comment Period End | 12/12/19
Final Action | 02/20/20 | 85 FR 9684
Final Action Effective | 03/23/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BJ28

66. • Framework Adjustment 32 to the Atlantic Sea Scallop Fishery Management Plan

E.O. 13771 Designation: Not subject to, not significant.

Legal Authority: 16 U.S.C. 1801 et seq.

Abstract: The purpose of this proposed rule is to approve and implement Framework 32 that sets management measures for the scallop fishery for the 2020 fishing year, including the annual catch limits for the limited access and limited access general category (LAGC) fleets, as well as days-at-sea (DAS) allocations and sea scallop access area trip allocations. Furthermore, Framework 32 would: Extend the existing seasonal closure in Closed Area II two additional weeks to reduce bycatch of Georges Bank yellowtail flounder and northern windowpane flounder, modify the one-for-one access area trip exchange requirements to accommodate different access area allocations, and close areas to fishing to protect small scallops and reduce bycatch of flatfish.

Timetable:

Action | Date | FR Cite
NPRM | 02/20/20 | 85 FR 9705
NPRM Comment Period End | 03/06/20
Final Action | 03/31/20 | 85 FR 17754
Final Action Effective | 04/01/20

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ51

67. Regulation To Reduce Incidental Bycatch and Mortality of Sea Turtles in the Southeastern U.S. Shrimp Fisheries

E.O. 13771 Designation: Regulatory.

Legal Authority: 16 U.S.C. 1531 et seq.

Abstract: The National Marine Fisheries Service issues this action to amend the alternative tow time restriction to require all skimmer trawl vessels 40 feet and greater in length to use turtle excluder devices (TEDs) designed to exclude small sea turtles in their nets. The purpose of this rule is to reduce incidental bycatch and mortality of sea turtles in the southeastern U.S. shrimp fisheries, and to aid in the protection and recovery of listed sea turtle populations. We are also amending the definition of tow time to better clarify the intent and purpose of tow times to reduce sea turtle mortality, and we are refining additional portions of the TED requirements to avoid potential confusion.

Timetable:

Action | Date | FR Cite
NPRM | 12/16/16 | 81 FR 91097
NPRM Comment Period End | 02/14/17
Final Action | 12/20/19 | 84 FR 70048
Final Action Effective | 04/01/21

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG45

DEPARTMENT OF COMMERCE (DOC)

Patent and Trademark Office (PTO)

Proposed Rule Stage

68. Trademark Fee Adjustment

E.O. 13771 Designation: Fully or Partially Exempt.

Legal Authority: 35 U.S.C. 2; 15 U.S.C. 1113; 15 U.S.C. 1123; Pub. L. 112-29

Abstract: The United States Patent and Trademark Office (Office) takes this action to set and adjust Trademark fee amounts to provide the Office with a sufficient amount of aggregate revenue to recover its aggregate cost of operations while helping the Office maintain a sustainable funding model, ensure integrity of the Trademark register, and promote efficiency of processes.

Timetable:

Action | Date | FR Cite
NPRM | 06/19/20 | 85 FR 37040
Final Action | 07/00/20
NPRM Comment Period End | 08/03/20
Final Action Effective | 09/00/20

Regulatory Flexibility Analysis Required: Yes.

Agency Contact: Catherine Cain, Trademark Manual of Examining Procedure Editor, Department of Commerce, Patent and Trademark Office, P.O. Box 1451, Alexandria, VA 22313, Phone: 571 272-8946, Fax: 751 273-8946, Email: catherine.cain@uspto.gov.

RIN: 0651-AD42

DEPARTMENT OF COMMERCE (DOC)

Patent and Trademark Office (PTO)

Final Rule Stage

69. Setting and Adjusting Patent Fees During Fiscal Year 2020

E.O. 13771 Designation: Fully or Partially Exempt.

Legal Authority: 35 U.S.C. 2(b)(2); 5 U.S.C. 500; 15 U.S.C. 1123; 35 U.S.C. 32; 35 U.S.C. 41; Pub. L. 113-227; 35 U.S.C. 3(a)(2)(A); 35 U.S.C. 21; 35 U.S.C. 23; 35 U.S.C. 134; 35 U.S.C. 135; Pub. L. 112-29; 35 U.S.C. 6; 35 U.S.C. 311; 35 U.S.C. 231; 35 U.S.C. 321-326; Pub. L. 112-274

Abstract: The USPTO operates like a business in that it fulfills requests for intellectual property products and services that are paid for by users of those services. The USPTO takes this action to set and adjusts patent fee amounts to provide sufficient aggregate revenue to cover aggregate cost of operations.

Timetable:

Action | Date | FR Cite
NPRM | 07/31/19 | 84 FR 37398
NPRM Comment Period End | 09/30/19
Final Action | 06/00/20
Final Action Effective | 08/00/20

Regulatory Flexibility Analysis Required: Yes.

Agency Contact: Brendan Hourigan, Director, Office of Planning and Budget, Department of Commerce, Patent and Trademark Office, P.O. Box 1450, Alexandria, VA 22313-1450, Phone: 571 272-8966, Fax: 571 273-8966, Email: brendan.hourigan@uspto.gov.

RIN: 0651-AD31

[FR Doc. 2020-16753 Filed 8-25-20; 8:45 am]

BILLING CODE 6820-14-P